DEPARTMENT OF THE INTERIOR

Fish and Wildlife Service

Draft Recovery Plan for the Sierra Nevada Bighorn Sheep

AGENCY: Fish and Wildlife Service, Interior.

ACTION: Notice of document availability for review and comment.

SUMMARY: We, the U.S. Fish and Wildlife Service, announce the availability of the Draft Recovery Plan for the Sierra Nevada Bighorn Sheep (Ovis canadensis californiana; bighorn sheep) for public review. The species occurs primarily on lands managed by the U.S. Forest Service, Inyo National Forest, and the National Park Service, Yosemite National Park in the Sierra Nevada in western Inyo and Mono Counties, California. This draft recovery plan describes the status, current management, recovery objectives and criteria, and specific actions needed to reclassify the bighorn sheep from endangered to threatened, and to ultimately delist it. We solicit review and comment from local, State, and Federal agencies, and the public on this draft recovery plan.

DATES: Comments on the draft recovery plan must be received on or before September 29, 2003 to receive our consideration.

ADDRESSES: Copies of the draft recovery plan are available for inspection, by appointment, during normal business hours at the following location: U.S. Fish and Wildlife Service, Ventura Fish and Wildlife Office, 2493 Portola Road, Suite B, Ventura, California 93003 (telephone 805-644-1766). Requests for copies of the draft recovery plan and written comments and materials regarding the plan should be addressed to the Field Supervisor at the above address. An electronic copy of this draft recovery plan is also available at http://www.r1.fws.gov/ecoservices/endangered/recovery/default.htm.

FOR FURTHER INFORMATION CONTACT: Carl Benz, Fish and Wildlife Biologist, at the above address.

SUPPLEMENTARY INFORMATION:

Background

Recovery of endangered or threatened animals and plants to the point where they are again secure, self-sustaining members of their ecosystems is a primary goal of our endangered species program. To help guide the recovery effort, we are working to prepare recovery plans for most listed species native to the United States. Recovery plans describe actions considered necessary for the conservation of the species, establish criteria for downlisting or delisting listed species, and estimate time and cost for implementing the recovery measures needed.

The Endangered Species Act (16 U.S.C. 1531 et seq.) (Act), requires the development of recovery plans for listed species unless such a plan would not promote the conservation of a particular species. Section 4(f) of the Act requires that public notice and an opportunity for public review and comment be provided during recovery plan development. We will consider all information presented during the public comment period prior to approval of each new or revised recovery plan. Substantive technical comments will result in changes to the plan. Substantive comments regarding recovery plan implementation may not necessarily result in changes to the recovery plan, but will be forwarded to appropriate Federal or other entities so that they can take these comments into account during the course of implementing recovery actions. Individual responses to comments will not be provided.

This draft recovery plan was developed by the Sierra Nevada Bighorn Sheep Recovery Team. We coordinated with the California Department of Fish and Game, and a team of stakeholders, which included ranchers, landowners and managers, agency representatives, and non-government organizations.

The population of bighorn sheep in the Sierra Nevada of California was listed as an endangered species on January 3, 2000, (65 FR 20) following emergency listing on April 20, 1999, (64 FR 19300). At the time of listing, the bighorn sheep population was very small, with only about 125 adults known to exist among 5 geographic areas, with little probability of interchange among those areas. The bighorn sheep is threatened primarily by transmission of disease from domestic sheep and goats, and predation by mountain lions. Key elements for immediate action are: (1) Predator management; (2) augmentation of small herds with sheep from larger ones; and (3) elimination of the threat of a pneumonia epizootic resulting from contact with domestic sheep or goats. Actions needed to recover the bighorn sheep include: (1) Protection of bighorn sheep habitat; (2) increase population growth by enhancing survivorship and reproductive output of bighorn sheep; (3) increase the numbers of herds, and thereby the number of bighorn sheep; (4) develop and implement a genetic management plan to maintain genetic diversity; (5) monitor status and trends of bighorn sheep herds and their habitat; (6) research; and (7) providing information to the public.

Public Comments Solicited

We solicit written comments on the draft recovery plan described. All comments received by the date specified above will be considered in developing a final recovery plan.

Authority

The authority for this action is section 4(f) of the Endangered Species Act, 16 U.S.C. 1533(f).

Dated: June 4, 2003.
Steve Thompson,
Manager, California/Nevada Operations Office, Region 1 , U.S. Fish and Wildlife Service.

[FR Doc. 03-19315 Filed 7-29-03; 8:45 am]

BILLING CODE 4310-55-P